NUCLEAR REGULATORY COMMISSION

[NRC-2025-1006]

Environmental Assessment and Finding of No Significant Impact of Independent Spent Fuel Storage Facilities Decommissioning Funding Plans

AGENCY: Nuclear Regulatory Commission.

ACTION: Notice; issuance.

SUMMARY: The U.S. Nuclear Regulatory Commission (NRC) is publishing this notice regarding the issuance of a final environmental assessment (EA) and a finding of no significant impact (FONSI) for its review and approval of the initial and updated decommissioning funding plans (DFPs) submitted for the independent spent fuel storage installation (ISFSI) at Three Mile Island Nuclear Station, Unit 1 (TMI-1).

DATES: The EA and FONSI referenced in this document are available on August 28, 2025.

ADDRESSES: Please refer to Docket ID NRC-2025-1006 when contacting the NRC about the availability of information regarding this document. You may obtain publicly available information related to this document using any of the following methods:

• Federal Rulemaking Website: Go to https://www.regulations.gov and search for Docket ID NRC-2025-1006. Address questions about Docket IDs in Regulations.gov to Bridget Curran; telephone: 301-415-1003; email: Bridget.Curran@nrc.gov. For technical questions, contact the individual(s) listed in the For Further Information Contact section of this document.

• NRC's Agencywide Documents Access and Management System (ADAMS): You may obtain publicly available documents online in the ADAMS Public Documents collection at https://www.nrc.gov/reading-rm/adams.html. To begin the search, select “Begin ADAMS Public Search.” For problems with ADAMS, please contact the NRC's Public Document Room (PDR) reference staff at 1-800-397-4209, at 301-415-4737, or by email to PDR.Resource@nrc.gov. The ADAMS accession number for each document referenced (if it is available in ADAMS) is provided the first time that it is mentioned in this document.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

FOR FURTHER INFORMATION CONTACT: Yen-Ju Chen, Office of Nuclear Material Safety and Safeguards, U.S. Nuclear Regulatory Commission, Washington, DC 20555-0001; telephone: 301-415-1018, email: Yen-Ju.Chen@nrc.gov.

SUPPLEMENTARY INFORMATION:

I. Introduction

The NRC is considering the approval of the initial and updated DFPs submitted by the TMI-1 ISFSI licensee, and the NRC staff has prepared a final EA and FONSI determination for the initial and updated TMI-1 ISFSI DFPs in accordance with the NRC regulations in part 51 of title 10 of the Code of Federal Regulations (10 CFR), “Environmental Protection Regulations for Domestic Licensing and Related Regulatory Functions,” which implement the National Environmental Policy Act of 1969, as amended (42 U.S.C. 4321 et seq.).

The NRC requires its licensees to plan for the eventual decommissioning of their licensed facilities prior to license termination. On June 17, 2011, the NRC published a final rule in the Federal Register amending its decommissioning planning regulations (76 FR 35512). The final rule amended the NRC regulation, 10 CFR 72.30, “Financial assurance and recordkeeping for decommissioning,” which concerns financial assurance and decommissioning for ISFSIs. This regulation requires each holder of, or applicant for, a license under 10 CFR part 72 to submit a DFP for the NRC's review and approval. The purpose of the DFP is to demonstrate the licensee's financial assurance, i.e., that funds will be available to decommission the ISFSI. The NRC staff will later publish its financial analyses of the DFP submittals which will be available for public inspection in ADAMS.

II. Discussion

The table in this notice includes the plant name, docket number, licensee, and ADAMS accession number for the final EA and FONSI determination for the TMI-1 ISFSI. The table also includes the ADAMS accession numbers for other relevant documents, including the initial and updated DFP submittals. For further details with respect to these actions, see the NRC staff's final EA and FONSI determinations which are available for public inspection in ADAMS and at https://www.regulations.gov under Docket ID NRC-2025-1006. For additional direction on accessing information related to this document, see the ADDRESSES section of this document.

Finding of No Significant Impact
Facility | Three Mile Island Nuclear Station, Unit 1 (TMI-1)
Docket No | 72-77.
Licensees | Exelon Generation Company, LLC (EGC)—initial submittal. Constellation Energy Generation, LLC (CEG)—updated submittal.
Proposed Action | The NRC's review and approval of EGC's initial and CEG's updated decommissioning funding plans (DFPs) submitted in accordance with 10 CFR 72.30(c).
Environmental Impact of Proposed Action | The NRC staff has determined that the proposed action, the review and approval of EGC's initial and CEG's updated DFPs, submitted in accordance with 10 CFR 72.30(c), will not authorize changes to licensed operations or maintenance activities, or result in changes in the types, characteristics, or quantities of radiological or non-radiological effluents released into the environment from the independent spent fuel storage installation (ISFSI), or result in the creation of solid waste. Moreover, the approval of the initial and updated DFPs will not authorize any construction activity, facility modification, or other land-disturbing activity. The NRC staff has concluded that the proposed action is a procedural and administrative action that will not have a significant impact on the environment.
Finding of No Significant Impact | The proposed action does not require changes to the ISFSI's licensed routine operations, maintenance activities, or monitoring programs, nor does it require new construction or land-disturbing activities. The scope of the proposed action concerns only the NRC's review and approval of EGC's initial and CEG's updated DFPs. The scope of the proposed action does not include, and will not result in, the review and approval of decontamination or decommissioning activities or license termination for the ISFSI or for other parts of TMI-1. Therefore, the NRC staff determined that approval of the initial and updated DFPs for the TMI-1 ISFSI will not significantly affect the quality of the human environment, and accordingly, the staff has concluded that a Finding of No Significant Impact (FONSI) is appropriate. The NRC staff further finds that preparation of an environmental impact statement is not required.
Available Documents | Federal Register notice. Final Rule “Environmental Protection Regulations for Domestic Licensing and Related Regulatory Functions and Related Conforming Amendments,” dated March 12, 1984 (49 FR 9381).
| Federal Register notice. Final Rule “Decommissioning Planning,” dated June 17, 2011 (76 FR 35512).
| U.S. Nuclear Regulatory Commission. 2003/08/31-NUREG-1748, “Environmental Review Guidance for Licensing Actions Associated with NMSS Programs, Final Report.” August 2003 (ADAMS Accession No. ML032540811).
| U.S. Nuclear Regulatory Commission. “Environmental Assessment for Final Rule: Decommissioning Planning” (10 CFR Parts 20, 30, 40, 50, 70, and 72; RIN 3150-AI55). February 2009 (ADAMS Accession No. ML090500648).
| U.S. Nuclear Regulatory Commission. ESA Section 7 No Effect Determination for ISFSI DFP Reviews (Note to File), dated May 15, 2017 (ADAMS Accession No. ML17135A062).
| U.S. Nuclear Regulatory Commission. “Final Environmental Assessment and Finding of No Significant Impact for Exelon Generation Company, LLC, Initial Decommissioning Funding Plan Submitted in Accordance with 10 CFR 72.30(b) and Constellation Energy Generation, LLC, Updated Decommissioning Funding Plan Submitted in Accordance with 10 CFR 72.30(c), for Three Mile Island Unit 1 Independent Spent Fuel Storage Installation,” dated August 11, 2025 (ML25071A052).
| U.S. Nuclear Regulatory Commission. “Analysis of Exelon Generation Company, LLC's 2021 Initial Decommissioning Funding Plan and Constellation Energy Generation, LLC's 2023 Updated Decommissioning Funding Plan for The Three Mile Island Unit 1 Independent Spent Fuel Storage Installation,” dated August 19, 2025 (ML25059A120).
| U.S. Nuclear Regulatory Commission. “Review of the Draft Environmental Assessment and Finding of No Significant Impact for The Three Mile Island Unit 1 Independent Spent Fuel Storage Installation Decommissioning Funding Plan,” dated March 17, 2025 (ML25042A627).
| Exelon Generation Company, LLC. Proposed Independent Spent Fuel Storage Installation (ISFSI) Decommissioning Funding Plan for Three Mile Island Nuclear Station, Unit 1, dated July 15, 2021 (ML21196A412).
| Constellation Energy Generation, LLC. Report on Status of Decommissioning Funding for Reactors and Independent Spent Fuel Storage Installations, dated March 23, 2023 (ML23082A312).

Dated: August 25, 2025.
For the Nuclear Regulatory Commission.
Haimanot Yilma,
Acting Chief, Storage and Transportation Licensing Branch, Division of Fuel Management, Office of Nuclear Material Safety and Safeguards.

[FR Doc. 2025-16461 Filed 8-27-25; 8:45 am]

BILLING CODE 7590-01-P